DEPARTMENT OF TRANSPORTATION

Surface Transportation Board

[STB Ex Parte No. 668]

Surface Transportation Board—2007 Office Relocation Business Plan

AGENCY: Surface Transportation Board, DOT.

ACTION: Notice.

SUMMARY: The Surface Transportation Board is scheduled to relocate over the period of February 28-March 4, 2007. The Board is giving notice of pre-relocation and post-relocation procedures. The Board's new address will be: Surface Transportation Board, 395 E Street, SW., Washington, DC 20423-0001.

EFFECTIVE DATE: February 28, 2007.

FOR FURTHER INFORMATION CONTACT: Joseph H. Dettmar, (202) 565-1609 [after March 4, 2007, (202) 245-0395]. [Assistance for the hearing impaired is available through the Federal Information Relay Service (FIRS) at: (800) 877-8339.]

SUPPLEMENTARY INFORMATION: The Board is issuing this notice to advise the public of its new location, effective March 5, 2007. The Board is scheduled to relocate its offices beginning at 5 p.m. on Wednesday, February 28, 2007. STB offices will be closed on March 1 and March 2, 2007, and will reopen for normal business operations at the new location beginning March 5, 2007. Its new address will be: Surface Transportation Board, 395 E Street, SW., Washington, DC 20423-0001. In addition, the Board is also giving the public advance notice that normal service to the public, including normal case intake and processing, will not occur during the immediate relocation dates of February 28, 2007, through March 4, 2007, due to necessary equipment relocation and other disruptions anticipated during the relocation.

Therefore, by this notice, the Board is announcing that mail will not be received and decisions will not be served on Thursday, March 1, 2007, and Friday, March 2, 2007. In particular, the Board will not: accept case filings or recordations; receive general mail; process cases; or issue decisions on these 2 days. Mail delivery and acceptance of filings and recordations will resume on March 5 at the new location. The Board will, for the duration of the period between March 1 and March 4, toll the time period for calculating the effective date of all Board decisions and notices that would otherwise be scheduled to take effect between March 1 and March 4, 2007. Because of the number of time-sensitive matters handled by the Board, the Board is providing advance notice that case filings that would begin a proceeding and trigger a deadline for processing or for effectiveness will not be accepted during the days needed to accomplish the agency's relocation. Likewise, the STB will suspend its processing of recordations during the days involved in its relocation. The effectiveness of previously issued decisions, or previously filed self-executing notices that would otherwise be scheduled to take effect between March 1 and March 4, 2007, will be delayed one day for every calendar day during the March 1-4 interval. This should alleviate any problems that could otherwise be presented for those persons who wish to seek a stay of effectiveness or problems that might otherwise occur in connection with processing of offers of financial assistance to continue rail service following Board approval of a rail line abandonment or discontinuance.

The Board's libraries will operate under the following schedule. The main library will be inaccessible from February 23 through March 5, 2007. The microfiche unit will be inaccessible from noon on February 28 through March 5, 2007. The tariff library will be inaccessible from February 28 through March 5, 2007. Recordations indexes will be inaccessible from February 23 through March 5, 2007. All Board library resources will reopen at the new location at the start of business on Tuesday, March 6, 2007.

Following the Board's move, the agency's information line will be 202-245-0245. To access the agency's new direct dial telephone numbers, either: (1) Dial any agency phone number now in use to listen to a recording advising of the new phone number replacing it; or (2) access the Board's Web site, at http://www.stb.dot.gov; click “Contact Us” at the bottom of the home page; then, when the new page appears, click either the “Key Contacts List” or the “Ready Reference List” found at the bottom of the new page.

On March 1 and 2, 2007, should an emergency situation arise, an STB staff member will monitor calls placed to the agency at 202-565-1573 and 202-565-9011 (fax). In addition, the STB's Office of Compliance and Consumer Assistance will monitor messages left at its toll free line 1-866-254-1792. Routine calls placed to the agency during its move will be returned beginning at the start of business at the new location on Monday, March 5, 2007.

This action will not significantly affect either the quality of the human environment or the conservation of energy resources.

Decided: February 21, 2007.
By the Board, Chairman Nottingham. Vice Chairman Buttrey, and Commissioner Mulvey.
Vernon A. Williams,
Secretary.

[FR Doc. E7-3332 Filed 2-26-07; 8:45 am]

BILLING CODE 4915-01-P